DEPARTMENT OF TRANSPORTATION

Federal Aviation Administration

14 CFR Part 39

[Docket No. FAA-2008-0670; Directorate Identifier 2007-NM-339-AD]

RIN 2120-AA64

Airworthiness Directives; Airbus Model A318, A319, A320, and A321 Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Damage to the lower lateral fittings of the 80VU rack * * * [and] damage to the lower central support fitting * * *.

In the worst case scenario a complete failure of the 80VU fittings in combination with a high load factor or strong vibration could lead to failure of the rack structure and/or computers or rupture/disconnection of the cable harnesses to one or more computers located in the 80VU. This rack contains computers for Flight Controls, Communication and Radio-navigation. These functions are duplicated across other racks but during critical phases of flight the multiple system failures/re-configuration may constitute an unsafe condition.

* * * * *

The proposed AD would require actions that are intended to address the unsafe condition described in the MCAI.

DATES: We must receive comments on this proposed AD by July 24, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Comments Invited

We invite you to send any written relevant data, views, or arguments about this proposed AD. Send your comments to an address listed under the ADDRESSES section. Include “Docket No. FAA-2008-0670; Directorate Identifier 2007-NM-339-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2007-0276, dated October 26, 2007 (referred to after this as “the MCAI”), to correct an unsafe condition for the specified products. The MCAI states:

Damage to the lower lateral fittings of the 80VU rack, typically elongated holes, migrated bushes [bushings], and/or missing bolts have been reported in-service. In addition damage to the lower central support fitting (including cracking) has been reported.

In the worst case scenario a complete failure of the 80VU fittings in combination with a high load factor or strong vibration could lead to failure of the rack structure and/or computers or rupture/disconnection of the cable harnesses to one or more computers located in the 80VU. This rack contains computers for Flight Controls, Communication and Radio-navigation. These functions are duplicated across other racks but during critical phases of flight the multiple system failures/re-configuration may constitute an unsafe condition.

This Airworthiness Directive (AD) mandates the repetitive inspection of the lower lateral 80VU fittings for damage and the inspection of the lower central 80VU support for damage and cracking, and the associated corrective actions as necessary with more restrictive actions than defined in Airbus Service Bulletin (SB) A320-25A1555 at its original issue.

The new requirements defined in this AD will be introduced in revision 1 of SB A320-25A1555.

The associated corrective actions include repair or replacement of the lower lateral fittings and/or central support. Replacing the 80VU support fittings eliminates the need for the repetitive inspection of the lower lateral fittings, and extends the repetitive interval for the lower central support. You may obtain further information by examining the MCAI in the AD docket.

Relevant Service Information

Airbus has issued Service Bulletins A320-25A1555, dated June 14, 2007; and A320-25-1557, dated June 14, 2007. The actions described in this service information are intended to correct the unsafe condition identified in the MCAI. The compliance times for doing the corrective actions are either before further flight, or within 4,500 flight cycles with repetitive inspections at intervals not to exceed 750 flight cycles until the repair is accomplished.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 678 products of U.S. registry. We also estimate that it would take about 82 work-hours per product to comply with the basic requirements of this proposed AD. The average labor rate is $80 per work-hour. Required parts would cost about $2,592 per product. Where the service information lists required parts costs that are covered under warranty, we have assumed that there will be no charge for these costs. As we do not control warranty coverage for affected parties, some parties may incur costs higher than estimated here. Based on these figures, we estimate the cost of the proposed AD on U.S. operators to be $6,205,056, or $9,152 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2008-0670; Directorate Identifier 2007-NM-339-AD.

Comments Due Date

(a) We must receive comments by July 24, 2008.

Affected ADs

(b) None.

Applicability

(c) This AD applies to Airbus Model A318-111, A318-112, A319-111, A319-112, A319-113, A319-114, A319-115, A319-131, A319-132, A319-133, A320-111, A320-211, A320-212, A320-214, A320-231, A320-232, A320-233, A321-111, A321-112, A321-131, A321-211, A321-212, A321-213, A321-231, and A321-232 airplanes, certificated in any category, except airplanes on which Airbus Modification 34804 has been embodied in production.

Subject

(d) Air Transport Association (ATA) of America Code 25: Equipment/Furnishings.

Reason

(e) The mandatory continuing airworthiness information (MCAI) states:

Damage to the lower lateral fittings of the 80VU rack, typically elongated holes, migrated bushes [bushings], and/or missing bolts have been reported in-service. In addition, damage to the lower central support fitting (including cracking) has been reported.

In the worst case scenario a complete failure of the 80VU fittings in combination with a high load factor or strong vibration could lead to failure of the rack structure and/or computers or rupture/disconnection of the cable harnesses to one or more computers located in the 80VU. This rack contains computers for Flight Controls, Communication and Radio-navigation. These functions are duplicated across other racks but during critical phases of flight the multiple system failures/re-configuration may constitute an unsafe condition.

This Airworthiness Directive (AD) mandates the repetitive inspection of the lower lateral 80VU fittings for damage and the inspection of the lower central 80VU support for damage and cracking, and the associated corrective actions as necessary with more restrictive actions than defined in Airbus Service Bulletin (SB) A320-25A1555 at its original issue.

The new requirements defined in this AD will be introduced in revision 1 of SB A320-25A1555.

The associated corrective actions include repair or replacement of the lower lateral fittings and/or central support. Replacing the 80VU support fittings eliminates the need for the repetitive inspection of the lower lateral fittings, and extends the repetitive interval for the lower central support.

Actions and Compliance

(f) Unless already done, do the following actions.

(1) Prior to the accumulation of 24,000 total flight cycles, or within 500 flight cycles after the effective date of this AD, whichever occurs later: Do a special detailed inspection of the 80VU rack lower lateral fittings for damage (e.g., broken fitting, missing bolts, migrated bushings, material burr, or rack in contact with the fitting) of the 80VU rack lower lateral fittings in accordance with the Accomplishment Instructions of Airbus Service Bulletin A320-25A1555, dated June 14, 2007. Except as provided by paragraph (f)(2) of this AD, repeat the inspection thereafter at the interval specified in paragraph (f)(1)(i) or (f)(1)(ii) of this AD, as applicable. Replacing the 80VU lower lateral fittings in accordance with Airbus Service Bulletin A320-25-1557, dated June 14, 2007, terminates the inspection requirements of this paragraph.

(i) If the 80VU rack lower lateral fittings have not been repaired in accordance with the Accomplishment Instructions of Airbus Service Bulletin A320-25A1555, dated June 14, 2007, repeat the inspection thereafter at intervals not to exceed 4,500 flight cycles.

(ii) If the 80VU rack lower lateral fittings have been repaired in accordance with the Accomplishment Instructions of Airbus Service Bulletin A320-25A1555, dated June 14, 2007, repeat the inspection thereafter at intervals not to exceed 24,000 flight cycles.

(2) If any damage is found during any inspection required by paragraph (f)(1) of this AD, do all applicable corrective actions (inspection and/or repair) in accordance with the Accomplishment Instructions and timeframes given in Airbus Service Bulletin A320-25A1555, dated June 14, 2007.

(3) Prior to the accumulation of 24,000 total flight cycles, or within 500 flight cycles after the effective date of this AD, whichever occurs later: Do a special detailed inspection of the 80VU rack lower central support for cracking in accordance with the Accomplishment Instructions of Airbus Service Bulletin A320-25A1555, dated June 14, 2007. Except as provided by paragraph (f)(4) of this AD, repeat the inspection thereafter at the interval specified in paragraph (f)(3)(i) or (f)(3)(ii) of this AD, as applicable.

(i) If the 80VU rack lower central support has not been repaired or replaced in accordance with the Accomplishment Instructions of Airbus Service Bulletin A320-25A1555, dated June 14, 2007; or Airbus Service Bulletin A320-25-1557, dated June 14, 2007; repeat the inspection thereafter at the interval specified in paragraph (f)(3)(i)(A) or (f)(3)(i)(B) of this AD, as applicable.

(A) For airplanes on which the lower central support has accumulated more than 30,000 total flight cycles as of the effective date of this AD: At intervals not to exceed 500 flight cycles.

(B) For airplanes on which the lower central support has accumulated 30,000 total flight cycles or fewer as of the effective date of this AD: At intervals not to exceed 4,500 flight cycles, without exceeding 30,750 total flight cycles for the first repetitive inspection.

(ii) If the 80VU rack lower central support has been repaired or replaced in accordance with the Accomplishment Instructions of Airbus Service Bulletin A320-25A1555, dated June 14, 2007; or Airbus Service Bulletin A320-25-1557, dated June 14, 2007; repeat the inspection thereafter at intervals not to exceed 24,000 flight cycles.

(4) If any crack is found during any inspection required by paragraph (f)(3) of this AD, do the action in paragraph (f)(4)(i) or (f)(4)(ii) of this AD, as applicable.

(i) If the crack length is more than 40 mm on the front or the rear sheet of the lower central support, as shown in Figure 3, Sheet 2 of Airbus Service Bulletin A320-25A1555, dated June 14, 2007, or if any crack is found on the upper sheet of the lower central support as shown in Figure 3, Sheet 3 of Airbus Service Bulletin A320-25A1555, dated June 14, 2007: Before further flight, repair or replace the lower central support in accordance with the Accomplishment Instructions of Airbus Service Bulletin A320-25A1555, dated June 14, 2007; or Airbus Service Bulletin A320-25-1557, dated June 14, 2007; as applicable.

(ii) If the crack length is 40 mm or less on the front or the rear sheet, as specified in Figure 3, Sheet 2 of Service Bulletin A320-25A1555, dated June 14, 2007: Within 20 months or 4,500 flight cycles after the crack finding, whichever occurs first, repair or replace the lower central support in accordance with the Accomplishment Instructions of Airbus Service Bulletin A320-25A1555, dated June 14, 2007; or A320-25-1557, dated June 14, 2007, as applicable. Until the repair or replacement of the lower central support is accomplished, repeat the inspection required by paragraph (f)(3) of this AD thereafter at intervals not to exceed 500 flight cycles.

FAA AD Differences

Note 1: This AD differs from the MCAI and/or service information as follows: No differences.

Other FAA AD Provisions

(g) The following provisions also apply to this AD:

(1) Alternative Methods of Compliance (AMOCs): The Manager, ANM-116, International Branch, Transport Airplane Directorate, FAA, has the authority to approve AMOCs for this AD, if requested using the procedures found in 14 CFR 39.19. Send information to ATTN: Tim Dulin, Aerospace Engineer, International Branch, ANM-116, Transport Airplane Directorate, FAA, 1601 Lind Avenue, SW., Renton, Washington 98057-3356; telephone (425) 227-2141; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2007-0276, dated October 26, 2007; Airbus Service Bulletin A320-25A1555, dated June 14, 2007; and Airbus Service Bulletin A320-25-1557, dated June 14, 2007, for related information.

Issued in Renton, Washington, on June 8, 2008.
Michael Kaszycki,
Acting Manager, Transport Airplane Directorate, Aircraft Certification Service.

[FR Doc. E8-14184 Filed 6-23-08; 8:45 am]

BILLING CODE 4910-13-P